POSTAL SERVICE

Notice of Availability of Draft Plan for Flat-Shaped Mail

Section 206 of the Postal Service Reform Act of 2022 (PSRA), Public Law 117-108, 206, 136 stat. 1127 (2022), required the Postal Regulatory Commission (Commission), in consultation with the Inspector General of the United States Postal Service, to conduct a Flats Operations Study (Study). The Commission issued its Study on April 6, 2023. Section 206 of the PSRA also required the Postal Service to develop and implement a plan (Flats Plan) in response to the Commission's Study.

Pursuant to section 206 of the PSRA, the Postal Service is soliciting comments on its Draft Flats Plan during a 30-day public comment period. Comments should be received not later than September 15, 2023.

Interested parties may view the Draft Flats Plan at about.usps.com/psra-flats-study. Interested parties may mail or deliver written comments, containing the name and address of the commenter, to: Chief Counsel, Global Business & Service Development, Office of General Counsel, 475 L'Enfant Plaza SW, Washington, DC 20260-1135, or at PCFederalRegister@usps.gov with the subject line “Flats Plan.” Note that comments sent by mail may be subject to delay due to federal security screening. Faxed comments are not accepted. All submitted comments and attachments are part of the public record and subject to disclosure. Do not enclose any material in your comments that you consider confidential or inappropriate for public disclosure.

Sarah Sullivan,
Attorney, Ethics and Legal Compliance.

[FR Doc. 2023-17567 Filed 8-15-23; 8:45 am]

BILLING CODE 7710-12-P